DEPARTMENT OF HEALTH AND HUMAN SERVICES

Administration for Children and Families

Request for Information: Administration for Children and Families Development of Interoperability Standards for Human Service Programs

AGENCY: Office of the Chief Technology Officer, Administration of Children and Families, Department of Health and Human Services.

ACTION: Request for information (RFI).

SUMMARY: The Administration for Children and Families (ACF), in the U.S. Department of Health and Human Services (HHS), invites public comments to inform the use or adoption of interoperability standards for human services programs. ACF and state, local, and tribal governments all provide a number of health and human services programs for children, youth, families, communities, and individuals. ACF seeks public comment on the most effective approaches, technical standards, and technological tools that currently or could promote interoperability between health and human services programs. ACF collaborates with the Assistant Secretary for Technology Policy/Office of the National Coordinator for Health Information Technology (ASTP/ONC) as a critical steward and advisor for human services interoperability with responsibility for leading the development and harmonization of interoperability standards between health and human services in line with the HHS Data Strategy. The potential of interoperability across the full spectrum of health and human services is immense—it can enable efficient delivery of government services, enhance access to critical non-profit programs, and most importantly, improve overall individual and community outcomes. ACF has authority under the Title IV of the Social Security Act to designate use of interoperable data standards for several of its programs (e.g., Temporary Assistance for Needy Families (TANF), child support, child welfare, and foster care). The purpose of this RFI is to understand how ACF, in collaboration with ASTP/ONC, can better support interoperability between human services within and across states and local community resources, between states, and ACF.

DATES: Comments are due within 60 days of publication.

ADDRESSES: Submit responses to DataRx@acf.hhs.gov, a federal mailbox allowing the public to submit comments on documents agencies have published in the Federal Register and are open for comment. Simply type “ACF-2024-Interoperability-RFI” in the Comment or Submission search box, click Go, and follow the instructions for submitting comments.

Comments submitted in response to this notice are subject to the Freedom of Information Act and may be made available to the public. For this reason, please do not include any information of a confidential nature, such as sensitive personal information or proprietary information. If you submit your email address, it will be automatically captured and included as part of the comment placed in the public docket. Please note that responses to this public comment request containing any routine notice about the confidentiality of the communication will be treated as public comments that may be made available to the public, notwithstanding the inclusion of the routine notice.

SUPPLEMENTARY INFORMATION:

1. Background

The Administration for Children and Families (ACF) requests comments to inform the use of interoperable data standards across human services programs. This will improve the quality of service delivery and increase efficiency in collaborations between agencies administering ACF programs and other government and non-government agencies that serve the same populations.

1.1 Regulation Development Process

The data exchange standardization requirements under the Social Security Act Title IV programs of child welfare and foster care (Titles IV-B and IV-E), child support (Title IV-D), and Temporary Assistance for Needy Families (TANF, Title IV-A) result from Public Laws 112-34,¹ 112-96,² 113-183,³ and 115-123.⁴ These laws require the designation of interoperable standards for data that must be exchanged: (1) between states and ACF; and/or (2) between states under specified programs.

ACF's Office of the Chief Technology Officer (OCTO) will lead the drafting of any regulations with respect to the programs described above with subject matter expertise from ACF program offices including, but not limited to, the Children's Bureau (CB), Family and Youth Services Bureau (FYSB), Office of Early Childhood Development (ECD), Office of Child Care (OCC), Office of Head Start (OHS), Office of Child Support Services (OCSS), Office of Community Services (OCS), Office of Family Assistance (OFA), and Office of Family Violence and Prevention Services (OFVPS).

Additionally, OCTO will coordinate and consult on the input received in response to this RFI both with the ASTP/ONC and with other agencies executing programs and policies involving human services interoperable data standards, such as the Centers for Medicare & Medicaid Services (CMS), Administration for Community Living (ACL), and the Health Resources and Services Administration (HRSA).

ASTP/ONC enable standards on behalf of HHS under section 3004 of the Public Health Service Act (PHSA) in 45 CFR part 170 Subpart B. As lead for the development and harmonization of interoperability standards between health and human services, ASTP/ONC may enable standards for human services which will be available for use by any HHS program, including ACF. Adopting standards in one location for HHS use enables alignment across HHS programs to further interoperability, including alignment described under Sections 13111 and 13112 of the Health Information Technology for Economic and Clinical Health Act (“HITECH Act”) (Pub. L. 111-5, Title XIII, secs. 13111 and 13112).

1.2 For the Purposes of This Notice

Interoperability refers to the ability of different information systems, devices, or applications to connect, in a coordinated way, within and beyond organizational boundaries to access, exchange, and use data in a cooperative way between stakeholders, with the aim of optimizing the health and wellbeing of individuals and populations (adapted from HIMSS, 2019).⁵ The definition of interoperability in section 4003 of the 21st Century Cures Act calls for all electronically accessible information to be accessed, exchanged, and used without special effort on the user's part (Pub. L. 114-255).

Standards, for the purposes of this RFI, refer to any documented, consistent, and repeatable method for exchanging data through technical or non-technical means. There are technical standards for electronic data exchange, such as through data exchange standards, including Health Level Seven (HL7) Fast Healthcare Interoperability Resources (FHIR®). There are also standards of practice in the context of business processes, such as protocols for encryption, hashing, or establishment of accessible websites. These standards of practice are often codified in policies, interagency agreements, memoranda of understanding, service-level agreements, etc.

Human Services Interoperability refers to the ability of health and human service systems to exchange data for service planning, coordination, delivery, monitoring, and evaluation in an automated, standards-based, and integrated manner that improves outcomes for children, families, and communities. Human services refer to programs that may not exclusively be provided or funded by HHS but may include those funded through other federal agencies. Human services include a wide variety of programs and services to enhance the quality of life, promote well-being, and address the needs of individuals and communities.

1.3 Purpose of Interoperable Data Standardization for Interoperability

The purpose of designating interoperable data standards is to ensure all parts of the human services delivery ecosystem can effectively and efficiently exchange information between and among programs for seamless service delivery. Effective and efficient information exchange can help appropriately reach people and deliver the right benefits, supporting coordinated case management, benefits enrollment, and new service delivery models. Interoperability promotes many objectives, from the availability of higher quality, more recent data that can be used to appropriately reach people and deliver the right benefits to coordinated case management, benefits enrollment, and new service delivery models.

Using timely and quality data, for example, a child welfare caseworker might be able to retrieve a family's current address from child support data to locate the family for an in-person visit or locate the non-custodial parent for possible placement of the children. Interoperable data standards between a public child welfare agency with care and custody of a child and a foster care placing agency could ensure both agencies have the most current information on the child in care. Interoperability can also help identify if household composition has changed, or a recipient has moved out of state, and changes to benefits levels are needed. For example, if a parent was reunited with their children exiting foster care, data sharing across information systems would allow the TANF agency to update the benefit eligibility for the family. Widespread adherence to data standards can enable better interoperability and reduce the burden of connecting disparate systems containing the information described in this example.

Interoperable data standards can also help to facilitate initiatives. For example, a Medicaid applicant works with a health insurance navigator during the annual Marketplace enrollment period and participates in a Social Determinants of Health (SDOH) questionnaire with the navigator, who recognizes that the applicant is experiencing challenges in securing adequate food and necessary clothing. The navigator could pre-fill an enrollment application for SNAP benefits and provide information to complete the enrollment. Also, the navigator can provide the Medicaid applicant with the local food bank's name, location, phone number, and a resource for the community clothing closet. Further, with the Medicaid applicant's consent, the navigator can send an electronic message or alert to the local non-profits identified in a statewide network of non-profit community resources, allowing receiving organizations to reach out to the applicant to determine if they need additional support to get connected with services. Common standards can help simplify the complex interactions between different systems described in this scenario and ensure scalability as new entities seek to participate in the exchange.

ACF believes that designating nationally recognized interoperable data standards in the programs described above will make it easier to share data across multiple organizations. While likely more effective and cost-effective in the long run, ACF also recognizes that this approach may initially involve financial and time costs related to updating proprietary systems to use open standards. Therefore, as part of any future ACF programmatic and policy development, and in coordination with ASTP/ONC, ACF seeks to strike the appropriate balance between the benefits of interoperability and standardization and ease of implementation.

2. Legal Authority

Federal statutes require ACF to designate interoperable data standards to promote data exchange in state human services programs at the state level and with the federal government. Most recently, the Family First Prevention Services Act (FFPSA), enacted as part of Public Law (Pub. L.) 115-123, authorized optional Title IV-E funding for time-limited prevention services for mental health, substance abuse, and in-home parent skill-based programs for children or youth who are candidates for foster care, pregnant or parenting youth in foster care, and the parents or kin caregivers of those children and youth. This law amended Title IV-B of the Social Security Act to require that ACF must “designate data exchange standards to govern . . . (1) necessary categories of information that State agencies operating programs under State plans approved under this part are required under applicable Federal law to exchange with another State agency electronically; and (2) Federal reporting and data exchange required under applicable Federal law” (42 U.S.C. 629m(a)).

The statute further provides that ACF shall incorporate, to the extent practical, interoperable standards developed and maintained by intergovernmental partnerships and federal agencies with authority over contracting and financial assistance. The data exchange reporting standards shall incorporate a widely accepted, nonproprietary, searchable, computer-readable format; be consistent with and implement applicable accounting principles; be implemented in a manner that is cost-effective and improves program efficiency and effectiveness; and be capable of being continually upgraded as necessary (42 U.S.C. 629m(b)).

Additionally, ACF coordinates with the ASTP/ONC in a manner consistent with Sections 13111 and 13112 of the HITECH Act to ensure alignment across HHS and non-HHS agencies around health IT standards ASTP/ONC adopts on behalf of HHS under section 3004 of the PHSA in 45 CFR part 170 Subpart B. ACF coordinates with ASTP/ONC pursuant to the provisions of the HITECH Act above when adopting, implementing, or upgrading health IT systems used for the direct exchange of individually identifiable health information between agencies and non-Federal entities.

The extent of data elements that need to be shared to enable improved service delivery and program management often exceeds the minimum legal requirements. As described throughout ACF's Confidentiality Toolkit ⁶ in the Applicable Federal Legislation sections, data sharing beyond the minimum regulatory requirements (as referenced throughout this RFI) is permissible and encouraged when practical use cases exist.

3. Current Interoperability Standards and Initiatives

3.1 FHIR and Gravity Project

HL7® Fast Healthcare Interoperability Resources (FHIR®) is a rapidly maturing interoperability standard based on modern internet technology approaches. FHIR goes beyond document-level interoperability to data element-level exchange. It uses standardized application programming interface (API) standards to facilitate interoperable data standards, enabling more efficient application development across multiple device types. There is a growing open-source community developing around FHIR implementation.⁷

Today, several stakeholder efforts are underway to extend the use of FHIR to support the interoperability of human services information. For instance, the Gravity Project ⁸ is a stakeholder-led initiative to identify and harmonize social risk factor data for interoperable electronic health information exchange. The HL7 Gravity Accelerator ⁹ established codes for data elements such as housing instability, food insecurity, transportation insecurity, etc. It creates a common terminology for exchanging content related to non-medical factors influencing health and human services outcomes. Another HL7 group is the Health and Social Services (HSS) Work Group, supported by ACF, which is focused on facilitating human services data content further. A project description of Enhancing the FHIR for Social Services and Social Determinants (EFSS) and a list of use cases can be found in Appendices 1 and 2.

3.2 United States Core Data for Interoperability (USCDI/USCDI+)

In the 21st Century Cures Act: Interoperability, Information Blocking, and the ONC Health IT Certification Program final rule (85 FR 25642) ¹⁰ published in May 2020, ASTP/ONC adopted the United States Core Data for Interoperability (USCDI) ¹¹ standard, which describes a standardized set of health data and constituent data elements for nationwide, interoperable health information exchange (85 FR 25669). USCDI is implemented in FHIR by mapping data elements and value sets to FHIR resources and implementation guides through the US Core Implementation Guide.¹² ASTP/ONC published Version 3 of the USCDI in July 2022 ¹³ and subsequently adopted Version 3 as the new baseline for the ASTP/ONC Certification Program in the Health Data, Technology, and Interoperability: Certification Program Updates, Algorithm Transparency, and Information Sharing (HTI-1) Final Rule (89 FR 1210). Version 3 included new data elements for social determinants of health (SDOH), which includes SDOH Problems/Health Concerns, SDOH Interventions, SDOH Goals, and SDOH Assessments. USCDI Version 4, published in July 2023,¹⁴ added 20 data elements to help address and mitigate health and healthcare inequities and disparities. Additional priorities for USCD v4 were to address underserved communities' needs, behavioral health integration with primary care and other physical care, and public health interoperability needs of reporting, investigation, and emergency response.

Further, ASTP/ONC oversees the USCDI+ ¹⁵ initiative to support identifying and establishing domain, or program-specific, datasets that build on the existing USCDI. Specifically, USCDI+ is a service that ASTP/ONC provides to federal and industry partners to establish, harmonize, and advance the use of interoperable datasets that extend beyond the core data in the USCDI to meet specific programmatic and/or use case requirements. This approach allows ASTP/ONC to assure that new datasets build from the same core USCDI foundation, and allows for alignment of similar data needs across agency programs and corresponding data users and/or participants at the state and local levels.

3.3 Human Services Interoperability Innovations (HSII) Demonstration Program

ACF has focused on programmatic investments to advance human services interoperability. ACF's Human Services Interoperability Innovations (HSII) demonstration program ¹⁶ was intended to expand data-sharing efforts by state and local governments, tribes, and territories to improve human services program delivery and to identify novel data-sharing approaches that can be replicated in other jurisdictions. These investments enabled ACF to fund entities to focus on addressing longstanding barriers to interoperability through cooperative agreements for the HL7 Care Plan for Maternal Opioid Misuse and the implementation of FHIR operating systems necessary to support Centers for Medicare and Medicaid Innovation (CMMI) Integrated Care for Kids model grantees in both New Jersey and Connecticut.

3.4 HL7 Human and Social Services (HSS) Workgroup

ACF led the creation of the HL7 Human and Social Services (HSS) Workgroup.¹⁷ The HSS Workgroup's mission is to provide a space to design and validate HL7 interoperable human services data standards. The group is also developing a common format for social services provider directory information. This project maps the definitions from Open Referral to the FHIR standard using an FHIR Facade before the Human Services Data API (HSDA).

4. Proposed Direction for Developing Interoperable Data Standards

The health sector has increasingly looked to FHIR as a core standard, catalyzed by the industry's embrace of FHIR and codified through the incorporation of ASTP/ONC-certified health IT systems featuring FHIR APIs into CMS program requirements for use of certified electronic health record technology (CEHRT) (for instance, Medicare Promoting Interoperability Program and the Promoting Interoperability performance category of the Merit-Based Incentive Payment System (MIPS)),¹⁸ and ASTP/ONC's efforts to incorporate FHIR as part of the technical requirements for the Trusted Exchange Framework Common Agreement (TEFCA).¹⁹ Given the need for human services data to be interoperable with health data to support integrated case management at the person level and in light of the opportunity to significantly leverage health sector infrastructure such as Qualified Health Information Networks (QHINs) and existing data exchange pathways using FHIR, ACF is considering the HL7 FHIR standard as the foundation of data interoperability for ACF-covered domains.

5. Request for Information

ACF seeks a more interoperable human services data ecosystem with available and shareable data between care providers, programs, and the government to drive improved outcomes for children and families. To deliver that goal, more consistent use of interoperable standards and practices is needed at all levels. ACF recognizes that organizations may be limited in major IT system transitions without significant new funding. However, without government-backed standards, pilots, and processes, the current and future IT systems will maintain and even accelerate their current degree of fragmentation. Therefore, ACF is seeking input on how to support a drive toward interoperability across the field in economical, efficient, effective, and reasonable ways.

ACF also seeks feedback on proposed initial domain focus areas for standards development and pilots. These focus areas may encompass areas where HHS/ASTP/ONC and ACF have formal regulatory powers to set standards for child welfare and foster care as well as prevention, adoption and guardianship (Title IV-B and IV-E), child support (Title IV-D), and Temporary Assistance for Needy Families (TANF, Title IV-A). It also includes areas where ACF could engage more actively with standards development organizations, such as the HL7 Human and Social Services (HSS) Workgroup (currently focusing on food, housing, and economic insecurity as its priority use cases). We are interested in receiving input affecting additional programs.

ACF requests comments on the following topics. Please comment or respond to any questions that apply from the perspective of your agency, organization, program, or setting; commenters are not required to respond to every question:

Input on specific topics

1. Practical enablers of/or barriers to interoperability:

1.1 Provide examples of the key enablers and/or inhibitors to using interoperable human services data standards (including data content and data exchange) in your program or agency.

1.2 How is the ability to exchange human services data impacted by state or federal law, policies, or other governing frameworks (including CMS Interoperability rules)?

1.3 What is the highest priority legal, policy, or governance issues to be addressed when moving to an interoperable ACF environment? (e.g., minor consent, guardianship, Family Education Rights and Privacy Act (FERPA), privacy, security, sensitive data, parental controls, etc.)

1.4 Describe any mitigation strategies or policy levers that have effectively moved interoperable human services data exchange forward in your organization, state, or program.

2. Impact of lack of human services interoperable data standardization: Provide examples of existing and planned human services interoperable data efforts and to what degree, if any, does a lack of standardization negatively impact them.

2.1 What interoperable data standards are being used today in ACF-funded programs?

2.2 Describe any impediments experienced in current systems when accessing, analyzing, or sending data to the federal level.

2.3 What are the benefits of moving to a common interoperable data standard like Fast Healthcare Interoperability Resources (FHIR)?

3. Care coordination: ACF seeks comments on current care coordination activities and data standards to support the interoperable data exchange for service delivery, operations, and reporting.

3.1 How do you currently use interoperable data to support care coordination across human services, both between human services programs and between human services and health services? For example, are you able to collect medical data for children who have medical issues?

3.2 Describe use cases that benefit from interoperable data standards for advancing service coordination activities among state and federal programs (e.g., clinical, administrative, operations). Tell us about systems currently used that are API-enabled.

3.3 What are the most important use cases where interoperable data standards or exchange protocols must be piloted/validated?

3.4 What federal support would be necessary or helpful to catalyze those efforts?

4. Interoperable data standards needed for operations and reporting: ACF recognizes that not all systems operate using interoperable data standards, and as a result, not all applications are capable of data exchange. Since 2021, ACF has sponsored an HL7 Human and Social Services (HSS) workgroup to develop data standards using FHIR specifications for Human and Social Services.

4.1 What ACF domains or programs would benefit from using an interoperable data standard for business operation and reporting?

4.2 To what extent is the HL7 or the HL7 FHIR standard used in ACF programs today?

4.3 Will your organization experience specific benefits or drawbacks if an interoperable data standard like FHIR is widely used in ACF programs?

4.4 Should any domain or program be exempt from using a standard like FHIR?

5. Standards in practice: In cases where human services data systems currently use interoperable data standards, describe how they do or do not incorporate the following:

5.1 Interoperable standards developed and maintained by an international voluntary consensus standards body such as HL7.

5.2 Interoperable standards developed and maintained by intergovernmental partnerships such as the National Information Exchange Model (NIEM).

5.3 Interoperable standards developed and maintained by specific federal agencies with authority over contracting and financial assistance.

6. Intra- and inter-state human services data sharing: Describe the types of human services agencies in your state that electronically exchange with other states, state agencies, or community organizations in healthcare or human services within your state.

6.1 How are they aligned, or not, with a specific industry standard(s), e.g., FHIR, to ensure ease of access and use of interoperable data?

6.2 What types of systems and non-proprietary, open-data standards are used to facilitate interoperability across programs?

6.3 Are there tools in use for normalizing and/or harmonizing data to standards?

6.4 Tell us about any significant data quality and matching issues to be addressed to make the data exchange meaningful.

6.5 What additional infrastructure would need to be developed to ensure that data is interoperable and actively exchanged?

7. Funding: Describe current funding mechanisms that support or hinder interoperable data systems' design, development, and implementation.

7.1 What types of funding have you leveraged to design, develop, and implement interoperable data systems (e.g., Advance Planning Documents and grants)?

7.2 What incentives or requirements would be needed to drive key use cases of data exchange once systems are interoperable (e.g., data quality and/or identity management)?

7.3 What barriers or challenges have you encountered with these funding mechanisms?

8. Technical Assistance: What technical assistance have you leveraged in designing, developing, and implementing interoperable data systems?

8.1 What technical assistance (such as subject matter expertise in data standards and coding/software development) would be necessary to move to an interoperable standard like FHIR?

8.2 What top actions should the federal government take to provide technical assistance to encourage human services interoperability?

9. United States Core Data for Interoperability (USCDI/USCDI+): Provide input to inform how ACF may identify, create, and standardize human services data elements leveraging the ASTP/ONC USCDI+ initiative, HL7 FHIR, and relevant HHS policy levers, including applicable regulations, to improve interoperability for human services programs. 9.1 How could an initiative such as USCDI+ be leveraged to harmonize human services data needed for care coordination, program evaluations, and reporting requirements?

9.2 What is the highest priority use case(s) that need further development in USCDI+ and FHIR to address ACF's stakeholders' needs?

9.3 What data elements are a high priority to enable comprehensive case management, including whole-person care, referrals, and research?

9.4 What technical and policy approaches effectively link human services data to health IT codes and value sets to help improve interoperability, and use across multiple systems and domains?

10. General questions—Provide input on the current state of data that your organization receives and/or exchanges.

10.1 What information do you exchange, if any, and from whom?

10.2 What information to you currently collect and from whom?

10.3 What information do you need to exchange, that you have trouble exchanging and with whom? How does that challenge impact your work, community, etc.?

11. Other considerations: ACF welcomes comments on other aspects of recognizing and establishing interoperable data standards for human services programs you wish to provide.

Kevin M. Duvall,
Chief Technology Officer, Administration of Children and Families.

Endnotes

¹ Public Law 112-34—Child and Family Service Improvement and Innovation Act. (2011). Retrieved from https://www.govinfo.gov/app/details/PLAW-112publ34/summary.

² Public Law 112-96—Middle Class Tax Relief and Job Creation Act. (2012). Retrieved from https://www.govinfo.gov/app/details/PLAW-112publ96/summary.

³ Public Law 113-183—Preventing Sex Trafficking and Strengthening Families Act. (2014). Retrieved from https://www.govinfo.gov/app/details/PLAW-113publ183/summary.

⁴ Public Law 115-123—Bipartisan Budget Act of 2018. (2018). Retrieved from https://www.govinfo.gov/app/details/PLAW-115publ123/summary.

⁵ Health Information Management Systems Society: Interoperability Definition. (2021). Retrieved from HIMSS writes new definition of interoperability—Digital-health.

⁶ Administration of Children and Families (ACF): Confidentiality Toolkit. (2021). Retrieved from https://www.acf.hhs.gov/opre/report/confidentiality-toolkit.

⁷ Redox. Popular Open Source FHIR Libraries. (2021). Retrieved from https://www.redoxengine.com/blog/popular-open-source-fhir-libraries/.

⁸ Health Level Seven (HL7) Confluence. (2023). The Gravity Project. Consensus-driven standards on social determinants of health. Retrieved from https://confluence.hl7.org/display/GRAV/The+Gravity+Project.

⁹ HealthITbuzz. (2022). FAST Continues FHIR Scalability Work as a New HL7 FHIR Accelerator. Retrieved from https://www.healthit.gov/buzz-blog/health-it/fast-continues-fhir-scalability-work-as-a-new-hl7-fhir-accelerator.

¹⁰ National Archives Federal Register. (2020). 21st Century Cures Act: Interoperability, Information Blocking, and the ONC Health IT Certification Program. Retrieved from https://www.federalregister.gov/documents/2020/05/01/2020-07419/21st-century-cures-act-interoperability-information-blocking-and-the-onc-health-it-certification.

¹¹ Office of the National Coordinator for Health IT. (2023). United States Core Data for Interoperability (USCDI). Retrieved from https://www.healthit.gov/isa/united-states-core-data-interoperability-uscdi.

¹² Office of the National Coordinator for Health IT. (2023) United States Core (US Core) Fast Healthcare Interoperability Resources (FHIR) Retrieved from https://hl7.org/fhir/us/core/history.html.

¹³ Office of the National Coordinator for Health IT. (2023) United States Core (US Core) Fast Healthcare Interoperability Resources (FHIR) Retrieved from https://hl7.org/fhir/us/core/history.html.

¹⁴ Office of the National Coordinator for Health IT. (2023). United States Core Data for Interoperability. Retrieved from https://www.healthit.gov/isa/sites/isa/files/2023-10/USCDI-Version-4-October-2023-Errata-Final.pdf.

¹⁵ Office of the National Coordinator for Health IT. (2023). United States Core Data for Interoperability Plus (USCDI+). Retrieved from https://www.healthit.gov/topic/interoperability/uscdi-plus.

¹⁶ Office of Planning, Research and Evaluation an Office of the Administration of Children & Families. (2023). Human Services Interoperability Innovations (HSII). Retrieved from https://www.acf.hhs.gov/opre/project/human-services-interoperability-innovations-hsii-2020-2021.

¹⁷ Health Level Seven (HL7) Confluence. (2023). Human and Social Services Home. Retrieved from https://confluence.hl7.org/display/HSS/Human+and+Social+Services+Home.

¹⁸ Centers for Medicare & Medicaid Services. (2020). CMS Interoperability and Patient Access Final Rule (CMS-9115-F). Retrieved from https://www.cms.gov/interoperability/policies-and-regulations/cms-interoperability-and-patient-access-final-rule-cms-9115-f.

¹⁹ The Sequoia Project. (2022). FHIR Roadmap v1.0. Retrieved from https://rce.sequoiaproject.org/wp-content/uploads/2022/01/FHIR-Roadmap-v1.0_updated.pdf.

[FR Doc. 2024-24924 Filed 10-25-24; 8:45 am]

BILLING CODE 4184-01-P